DEPARTMENT OF THE INTERIOR

National Indian Gaming Commission

25 CFR Parts 542 and 543

Minimum Internal Control Standards for Class II Gaming

AGENCY: National Indian Gaming Commission, Interior.

ACTION: Final rule; delay of effective date and request for comments.

SUMMARY: The National Indian Gaming Commission (“NIGC”) announces the delay of the effective date on the final rule for Minimum Internal Control Standards for Class II Gaming. The final rule was first published in the Federal Register on October 10, 2008. The Commission delayed the effective date for portions of the final rule on October 9, 2009, and September 10, 2010. With this document, the Commission further delays the effective date in order to allow the Commission time to convene a Tribal Advisory Committee (TAC), to receive and review input from the TAC, and to thoroughly review comments from the public on any potential amendments to the regulations.

DATES: This rule is effective October 12, 2012. The effective date for the amendments to §§ 542.7 and 542.16 in the final rule published October 10, 2008 (73 FR 60492), delayed October 9, 2009 (74 FR 52138) and September 10, 2010 (75 FR 55269), is further delayed until October 12, 2012. Comments must be received on or before October 25, 2011.

ADDRESSES: You may submit comments by any one of the following methods, however, please note that comments sent by electronic mail are strongly encouraged.

• E-mail comments to: reg.review@nigc.gov.

• Mail comments to: Lael Echo-Hawk, Counselor to the Chair, National Indian Gaming Commission, 1441 L Street, NW., Suite 9100, Washington, DC 20005.

• Hand deliver comments to: 1441 L Street, NW., Suite 9100, Washington, DC 20005.

• Fax comments to: Lael Echo-Hawk, Counselor to the Chair, National Indian Gaming Commission at 202-632-0045.

FOR FURTHER INFORMATION CONTACT: Lael Echo-Hawk, National Indian Gaming Commission, 1441 L Street, NW., Suite 9100, Washington, DC 20005. Telephone: 202-632-7009; e-mail: reg.review@nigc.gov.

SUPPLEMENTARY INFORMATION: The Indian Gaming Regulatory Act (IGRA or Act), Public Law 100-497, 25 U.S.C. 2701 et seq., was signed into law on October 17, 1988. The Act establishes the National Indian Gaming Commission (“Commission”) and sets out a comprehensive framework for the regulation of gaming on Indian lands.

The NIGC issued a final rule that superseded specified sections of established Minimum Internal Control Standards and replaced them with a new part titled Minimum Internal Control Standards Class II Gaming, that was published in the Federal Register on October 10, 2008 (73 FR 60492). The final rule provided an effective date for amendments to §§ 542.7 and 542.16 of October 13, 2009. An extension delayed the effective date of the amendments until October 13, 2010. 74 FR 52138, October 9, 2009. An additional extension delayed the effective date of the amendments until October 13, 2011, 75 FR 55269, September 10, 2010. The NIGC is again extending the effective date of these amendments to October 12, 2012. The rule at § 543.3(c)(3) also set a deadline of within six months of the date the tribal gaming regulatory authorities' enactment of tribal internal controls for tribal operators to come into compliance with tribal internal controls. This deadline has likewise been extended to October 12, 2012.

As explained in the preamble to the final rule (73 FR 60492 (October 10, 2008)), the Commission intended these amendments to be the first part of a multi-phase process of establishing separate MICS for class II gaming and that the extended effective date would provide the necessary time to complete this process. On October 9, 2009, the Commission extended the effective date of the amendments until October 13, 2010, anticipating that all phases of the process would then be complete and that a final comprehensive set of class II MICS would take effect at that time. 74 FR 52138 (October 9, 2009). The newly appointed Commission approved an additional extension to delay the effective date of the amendments until October 13, 2011, 75 FR 55269 (September 10, 2010). The Commission then decided to create a Tribal Advisory Committee to assist in the review of these rules. The NIGC is again extending the effective date of these amendments to October 12, 2012 to allow time for the transition as contemplated by the final rule.

List of Subjects

25 CFR Part 542

Accounting, Gambling, Indians—lands, Reporting and recordkeeping requirements.

25 CFR Part 543

Administrative practice and procedure, Gambling, Indians—lands, Reporting and recordkeeping requirements.

For the reasons set forth above, under the authority at 25 U.S.C. 2701, 2702, 2706, et seq., the effective date for the amendments to §§ 542.7 and 542.16 in the final rule published October 10, 2008, 73 FR 60492, is delayed from October 13, 2011, until October 12, 2012 and 25 CFR part 543.3 is amended as set forth below:

PART 543—MINIMUM INTERNAL CONTROL STANDARDS FOR CLASS II GAMING

1. The authority citation for part 543 continues to read as follows:

Authority: 25 U.S.C. 2701 et seq.

2. Section 543.3 is amended by revising paragraph (c)(3) to read as follows:

§ 543.3 How do tribal governments comply with this part?

* * * * *

(c) * * *

(3) Establish a deadline, no later than October 12, 2012, by which a gaming operation must come into compliance with the tribal internal control standards. However, the tribal gaming regulatory authority may extend the deadline by six months if written notice citing justification is provided to the Commission no later than two weeks before the deadline.

* * * * *

Dated: August 24, 2011, Washington, DC.
Tracie L. Stevens,
Chairwoman.
Steffani A. Cochran,
Vice-Chairwoman.
Daniel J. Little,
Associate Commissioner.

[FR Doc. 2011-22035 Filed 8-29-11; 8:45 am]

BILLING CODE P